SURFACE TRANSPORTATION BOARD

[Docket No. FD 36543]

City Utilities of Springfield, Mo.—Acquisition Exemption—Line of BNSF Railway Company in Greene County, Mo.

City Utilities of Springfield, Mo. (City Utilities) has filed a verified notice of exemption under 49 CFR 1150.31 to acquire from BNSF Railway Company approximately 1.24 miles of rail line extending from approximately milepost 248.86 to approximately milepost 250.1, in Greene County, Mo. (the Line).

City Utilities states that it acquired title to the Line and other track from the Burlington Northern Railroad Company (BN) through deeds dated January 15, 1986, and July 21, 1987, and that BN, and subsequently BNSF Railway Company, provided rail operations over the Line to deliver coal to City Utilities' James River Power Station (JRPS) until that facility ceased burning coal in 2015.¹ City Utilities states that it recently discovered, as part of its due diligence in converting the right-of-way into a multi-use recreational trail, that it inadvertently neglected to seek acquisition authority for the Line from the ICC when it acquired the Line from BN. City Utilities now seeks after-the-fact Board authorization for its prior acquisition of the Line.²

¹ According to City Utilities, in 1983, BN abandoned a portion of rail line that extended between milepost 250.1 and milepost 257.6 but did not remove the tracks beyond milepost 250.83. See Burlington N. R.R.—Aban.—in Christian & Greene Cntys., Mo., AB 6 (Sub-No. 148) (ICC served July 15, 1983). City Utilities states that, consequently, the track it acquired from BN consisted of both abandoned track and track—i.e., the Line—that was still subject to the jurisdiction of the Board's predecessor, the Interstate Commerce Commission (ICC).

² Citing Cattaraugus Local Development Corp.—Abandonment Exemption—in Cattaraugus County, N.Y., AB 1300X et al. (STB served Aug. 5, 2020), City Utilities states that it intends to seek authorization from the Board to abandon the Line.

City Utilities certifies that there will be no rail operations over the Line and, as such, annual revenues generated by City Utilities from the Line will not exceed levels that would result in City Utilities becoming a rail carrier under any of the thresholds set forth in 49 CFR part 1201. Also, City Utilities certifies that no agreements conveying the Line from BN to City Utilities involved any provisions that limited future interchange with a third-party connecting carrier.

The transaction will become effective on October 30, 2021 (30 days after the verified notice of exemption was filed).

If the verified notice contains false or misleading information, the exemption is void ab initio. Petitions to revoke the exemption under 49 U.S.C. 10502(d) may be filed at any time. The filing of a petition to revoke will not automatically stay the effectiveness of the exemption. Petitions to stay must be filed no later than October 22, 2021 (at least seven days before the exemption becomes effective).

All pleadings, referring to Docket No. FD 36543, should be filed with the Surface Transportation Board via e-filing on the Board's website. In addition, a copy of each pleading must be served on City Utilities' representative, Thomas W. Wilcox, Law Office of Thomas W. Wilcox, LLC, 1629 K Street NW, Suite 300, Washington, DC 20006.

According to City Utilities, this action is categorically excluded from environmental review under 49 CFR 1105.6(c) and from historic preservation reporting requirements under 49 CFR 1105.8(b)(1).

Board decisions and notices are available at www.stb.gov.

Decided: October 12, 2021.
By the Board, Scott M. Zimmerman, Acting Director, Office of Proceedings.
Jeffrey Herzig,
Clearance Clerk.

[FR Doc. 2021-22534 Filed 10-14-21; 8:45 am]

BILLING CODE 4915-01-P